DEPARTMENT OF HOMELAND SECURITY

Coast Guard

33 CFR Part 117

[Docket No. USCG-2010-0787]

RIN 1625-AA09

Drawbridge Operation Regulation; Pequonnock River, Bridgeport, CT

AGENCY: Coast Guard, DHS.

ACTION: Final rule.

SUMMARY: The Coast Guard is removing the drawbridge operation regulations that govern the operation of two bridges, the Congress Street Bridge at mile 0.4, and the Grand Street Bridge at mile 0.9, across the Pequonnock River at Bridgeport, Connecticut. This final rule removes the regulations for the two bridges because the draw spans of the bridges have been removed.

DATES: This rule is effective September 13, 2010.

ADDRESSES: Documents indicated in this preamble as being available in the docket, are part of docket USCG-2010-0787 and are available by going to http://www.regulations.gov, inserting USCG-2010-0787 in the “keyword” box, and then clicking “search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District Bridge Branch, 212-668-7165, judy.leung-yee@uscg.mil. If you have questions on viewing the docket, call Renee V. Wright, Program Manager, Docket Operations, telephone 202-366-9826.

SUPPLEMENTARY INFORMATION:

Regulatory Information

The Coast Guard is issuing this final rule without prior notice and opportunity to comment pursuant to authority under section 4(a) of the Administrative Procedures Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because we are removing the operation regulations for two moveable draw bridges that no longer have moveable spans.

Under 5 U.S.C. 553(d)(3), the Coast Guard finds that good cause exists for making this rule effective in less than 30 days after publication in the Federal Register. The drawbridges listed under the regulations we are removing no longer have moveable spans; therefore, the drawbridge operation regulations are no longer necessary.

Background and Purpose

The drawbridge operation regulations for the Congress Street Bridge at mile 0.4, and the Grand Street Bridge at mile 0.9, across the Pequonnock River at Bridgeport, Connecticut, are listed at 33 CFR 117.219(d) and 33 CFR 117.219(f).

The moveable span at the Congress Street Bridge was removed due to deterioration but the approach spans have been retained for a future bridge replacement. The Grand Street Bridge was demolished in its entirety in 2000.

The Coast Guard, as a result, is removing the drawbridge operation regulations for the above bridges because they are no longer applicable or necessary since the moveable spans have been removed.

Discussion of Rule

This final rule removes the drawbridge operation regulations listed at 33 CFR 117.219(d) that govern the operation of the Congress Street Bridge at mile 0.4, and 33 CFR 117.219(f) that govern the operation of the Grand Street Bridge at mile 0.9, both across the Pequonnock River at Bridgeport, Connecticut. The moveable spans for both bridges were removed and the drawbridge operation regulations are no longer necessary as a result.

Paragraph (a) stating that public vessels of the United States must be passed as soon as possible, will also be removed by this final rule because it is now listed at 33 CFR 117.31, under Subpart A, General Requirements.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. This conclusion is based upon the fact that we are removing regulations that are no longer applicable or necessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This conclusion is based upon the fact that we are removing regulations that are no longer applicable or necessary.

Assistance for Small Entities

Under section 213(a) of the Small Business Regulatory Enforcement Fairness Act of 1996 (Pub. L. 104-121), we offer to assist small entities in understanding the rule so they can better evaluate its effect on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have a taking implication under Executive Order 12630, Governmental Actions and Interference with Constitutionally Protected Property.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guides the Coast Guard in complying with the National Environmental Policy Act of 1969 (NEPA) (42 U.S.C. 4321-4370f), and have concluded that this action is one of a category of actions which do not individually or cumulatively have a significant effect on the human environment. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. Revise § 117.219 to read as follows:

§ 117.219 Pequonnock River.

(a) The draw of the Stratford Avenue Bridge at mile 0.1, at Bridgeport, shall open on signal; except that, from 6:45 a.m. to 7:15 a.m., 7:45 a.m. to 8:15 a.m., 11:45 a.m. to 1:15 p.m., and 4:30 p.m. to 6:10 p.m., the draw need not open for the passage of vessel traffic. From December 1 through March 31, from 8 p.m. to 4 a.m., the draw shall open on signal if at least a six-hour notice is given by calling the number posted at the bridge.

(b) The draw of the Metro-North Peck Bridge at mile 0.3, at Bridgeport, shall open on signal or after three blasts as follows:

(1) From 5:45 a.m. to 9 p.m. except:

(i) From Monday through Friday, excluding holidays or emergencies, the draw need not be opened from 6:45 a.m. to 7:15 a.m., 7:45 a.m. to 8:15 a.m., and 4:30 p.m. to 6:10 p.m.

(ii) From Monday through Friday, excluding holidays or emergencies, the draw need not be opened more than once during the periods from 5:45 a.m. to 6:45 a.m., 7:15 a.m. to 7:45 a.m., 8:15 a.m. to 9 a.m., and 6:10 p.m. to 8:15 p.m.

(2) From 9 p.m. to 5:45 a.m., the draw shall open on signal if at least an eight-hour notice is given by calling the number posted at the bridge.

(3) The draw need not open on signal if a train is approaching so closely that it may not be safely stopped; however, any delay in opening the draw shall not exceed seven minutes from the time the request to open is received.

(c) The draw of the East Washington Street Bridge at mile 0.6, shall open on signal or after one prolonged blast followed by two short blasts, if at least a twenty four hour notice is given by calling the number posted at the bridge.

Dated: August 27, 2010.
Daniel A. Neptun,
Rear Admiral, U.S. Coast Guard, Commander, First Coast Guard District.

[FR Doc. 2010-22749 Filed 9-10-10; 8:45 am]

BILLING CODE 9110-04-P